ENVIRONMENTAL PROTECTION AGENCY

[FRL-9279-9]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held March 30 and 31 at the Arlington Court Suites Hotel, 1200 North Courthouse Road, Arlington, VA. The CHPAC was created to advise the Environmental Protection Agency on science, regulations, and other issues relating to children's environmental health.

DATES: The CHPAC will meet March 30 and 31, 2011.

ADDRESSES: Arlington Court Suites Hotel, 1200 North Courthouse Road, Arlington, VA.

FOR FURTHER INFORMATION CONTACT: Martha Berger, Office of Children's Health Protection, USEPA, MC 1107T, 1200 Pennsylvania Avenue, NW., Washington, DC 20460, (202) 564-2191, berger.martha@epa.gov.

SUPPLEMENTARY INFORMATION: The meetings of the CHPAC are open to the public. Preliminary agenda includes discussion of advice letters on chemical prioritization and on asthma disparities, sustainability and children's health, guidelines to states for school environmental health programs, and the Design for the Environment program.

The final agenda will be posted at http://www.epa.gov/children.

Access: For information on access or services for individuals with disabilities, please contact Martha Berger at 202-564-2191 or berger.martha@epa.gov.

Dated: March 3, 2011.
Martha Berger,
Designated Federal Official.

[FR Doc. 2011-5803 Filed 3-11-11; 8:45 am]

BILLING CODE 6560-50-P